DEPARTMENT OF JUSTICE

Notice of Lodging of Consent Decree Pursuant to the Federal Water Pollution Control Act (“CWA”)

Notice is hereby given that a proposed Consent Decree (“Decree”) in United States v. Jayhawk Pipeline, L.L.C., Civil Action No. 99-20009-GTV, was lodged on August 8th, 2000, with the United States District Court for the District of Kansas.

The Complaint filed in the above-referenced matter alleges that Defendant Jayhawk Pipeline, L.L.C. (“Jayhawk”) violated Sections 311(b)(3) and 309(b) of the Federal Water Pollution Control Act, commonly known as the Clean Water Act (“CWA”), 33 U.S.C. 1321(b)(3) and 1319(b). The Complaint, which was filed on January 11, 1999, sought civil penalties and injunctive relief for 16 discharges of oil from Jayhawk's inland oil gathering lines to navigable waters of the United States or adjoining shorelines within the State of Kansas.

Under the proposed Decree, Jayhawk shall pay the United States $352,500 in civil penalties for the 16 discharges alleged in the Complaint, and 12 additional discharges itemized in Appendix D to the proposed Decree. Additionally, the proposed Decree requires Jayhawk to:

(A) Purge and permanently remove from service the Eastern, Central and Western portions of its gathering line system in accordance with an agreed upon schedule. See Consent Decree at ¶¶ 11-13.

(B) Install a cathodic protection system on all gathering lines which remain in service in accordance with specified industry standards. The system will include periodic close interval and pipe-to-soil surveys and a commitment to perform corrective measures. See Consent Decree at ¶¶ 16-20.

(C) Perform periodic on the ground surveys of all remaining gathering lines in order to identify “Covered Water Bodies” within 500 feet of Jayhawk's remaining lines, and to ensure that the gathering lines meet specified standards for sufficiency of cover. Jayhawk will perform required corrective measures. See Consent Decree at ¶¶ 21-22.

(D) Hydrostatically test all remaining gathering lines located within 500 feet of a Covered Water Body, in order to ensure that the gathering line meets industry standards for structural integrity. See Consent Decree at ¶ 24.

(E) Company with an operation and maintenance manual for its gathering system which complies with federal standards set for trunk lines. Similarly, Jayhawk shall comply with federal standards for employee training set for trunk lines on its gathering system. See Consent Decree at ¶¶ 27-28.

In exchange, the United States is granting Jayhawk a covenant not to sue for civil penalties pursuant to Section 311(b) of the CWA arising from the twenty-eight discharges specified in Appendix D. The United States is also granting Jayhawk a covenant not to sue for injunctive relief under Section 309(b) or 311(e) of the CWA for the work performed pursuant to the Decree.

The Department of Justice will receive, for a period of thirty (30) days from the date of this publication, comments relating to the proposed consent decree. Comments should be addressed to the Assistant Attorney General for the Environment and Natural Resources Division, P.O. Box 7611, U.S. Department of Justice, Washington, DC 20044, and should refer to United States v. Jayhawk Pipeline, L.L.C., DOJ Ref. #90-5-1-1-4460.

The proposed Decree may be examined at the Office of the United States Attorney, District of Kansas, 500 State Avenue, Suite 360, Kansas City, KS 66101, 913-551-6730; and the Region VII Office of the Environmental Protection Agency, 901 N. 5th Street, Kansas City, KS 66101, 913-551-7714. A copy of the proposed Decree may also be obtained by mail from the Consent Decree Library, P.O. Box 7611, Washington, DC 20044. In requesting a copy of the Consent Decree, please refer to the referenced case and enclose a check in the amount of $42.00 for the Decree and all attachments, or $10.75 for the Decree without attachments (25 cents per page reproduction costs), payable to the Consent Decree Library.

Bruce Gelber,
Deputy Chief, Environmental Enforcement Section, Environment and Natural Resources Division.

[FR Doc. 00-21284 Filed 8-21-00; 8:45 am]

BILLING CODE 4410-15-M